BROADCASTING BOARD OF GOVERNORS

Government in the Sunshine Act Meeting Notice

DATE AND TIME: Thursday, October 13, 2011, 3 p.m.

PLACE: Cohen Building, Room 3321, 330 Independence Ave., SW., Washington, DC 20237.

SUBJECT: Notice of Meeting of the Broadcasting Board of Governors.

SUMMARY: The Broadcasting Board of Governors (BBG) will be meeting at the time and location listed above. The BBG will receive and consider recommendations regarding the conclusion of the year-long strategic review and the BBG committee membership. The BBG will also consider revising its BBG meeting schedule for the remaining calendar year. The BBG will receive reports from: the International Broadcasting Bureau Director, the Voice of America Director, the Office of Cuba Broadcasting Director, the Technology, Services and Innovation Director, the Office of New Media, and the Presidents of Radio Free Europe/Radio Liberty, Radio Free Asia, and the Middle East Broadcasting Networks. The meeting is open to public observation via streamed webcast, both live and on-demand, on the BBG's public Web site at http://www.bbg.gov.

CONTACT PERSON FOR MORE INFORMATION: Persons interested in obtaining more information should contact Paul Kollmer-Dorsey at (202) 203-4545.

Paul Kollmer-Dorsey,
Deputy General Counsel.

[FR Doc. 2011-26253 Filed 10-6-11; 11:15 am]

BILLING CODE 8610-01-P